SMALL BUSINESS ADMINISTRATION

Revocation of License of Small Business Investment Company

Pursuant to the authority granted to the United States Small Business Administration by the Final Order of the United States District Court for the Northern District of Georgia dated May 19, 2003, the United States Small Business Administration hereby revokes the license of Renaissance Capital Corporation, a Georgia Corporation, to function as a small business investment company under the Small Business Investment Company License No. 04/04-5236 issued to Renaissance Capital Corporation and said license is hereby declared null and void as of September 5, 2003.

Dated: September 12, 2003.
Small Business Administration.
Jeffrey D. Pierson,
Associate Administrator for Investment.

[FR Doc. 03-23980 Filed 9-18-03; 8:45 am]

BILLING CODE 8025-01-P